EXPORT-IMPORT BANK OF THE UNITED STATES

Economic Impact Policy

This notice is to inform the public that the Export-Import Bank of the United States has received an application to support the export of approximately $112 million in U.S. rail hardening and straightening equipment and services to Russia. The financed amount associated with the U.S. export contract is expected to total approximately $88 million. The project will result in an increase in Russian rail production by 200,000 metric tons per year. Available information indicates that the Russian production is for domestic consumption only. Interested parties may submit comments on this transaction by email to economic.impact@exim.gov or by mail to 811 Vermont Avenue NW., Room 947, Washington, DC 20571, within 14 days of the date this notice appears in the Federal Register.

Angela Mariana Freyre,
Senior Vice President and General Counsel.

[FR Doc. 2012-9313 Filed 4-17-12; 8:45 am]

BILLING CODE 6690-01-P